DEPARTMENT OF TRANSPORTATION

Federal Railroad Administration

[Docket No. FRA-2014-0011-N-19]

Proposed Agency Information Collection Activities; Comment Request

AGENCY: Federal Railroad Administration (FRA), DOT.

ACTION: Notice.

SUMMARY: In accordance with the Paperwork Reduction Act of 1995 and its implementing regulations, the Federal Railroad Administration (FRA) hereby announces that it is seeking renewal of the following currently approved information collection activities. Before submitting the information collection requests (ICRs) below for clearance by the Office of Management and Budget (OMB), FRA is soliciting public comment on specific aspects of the activities identified below.

DATES: Comments must be received no later than December 16, 2014.

ADDRESSES: Submit written comments on any or all of the following proposed activities by mail to either: Mr. Robert Brogan, Office of Safety, Planning and Evaluation Division, RRS-21, Federal Railroad Administration, 1200 New Jersey Ave. SE., Mail Stop 25, Washington, DC 20590, or Ms. Kimberly Toone, Office of Information Technology, RAD-20, Federal Railroad Administration, 1200 New Jersey Ave. SE., Mail Stop 35, Washington, DC 20590. Commenters requesting FRA to acknowledge receipt of their respective comments must include a self-addressed stamped postcard stating, “Comments on OMB control number 2130-__.” Alternatively, comments may be transmitted via facsimile to (202) 493-6216 or (202) 493-6479, or via email to Mr. Brogan at Robert.Brogan@dot.gov, or to Ms. Toone at Kimberly.Toone@dot.gov. Please refer to the assigned OMB control number in any correspondence submitted. FRA will summarize comments received in response to this notice in a subsequent notice and include them in its information collection submission to OMB for approval.

FOR FURTHER INFORMATION CONTACT: Mr. Robert Brogan, Office of Planning and Evaluation Division, RRS-21, Federal Railroad Administration, 1200 New Jersey Ave. SE., Mail Stop 17, Washington, DC 20590 (telephone: (202) 493-6292) or Ms. Kimberly Toone, Office of Information Technology, RAD-20, Federal Railroad Administration, 1200 New Jersey Ave. SE., Mail Stop 35, Washington, DC 20590 (telephone: (202) 493-6132). (These telephone numbers are not toll-free.)

SUPPLEMENTARY INFORMATION: The Paperwork Reduction Act of 1995 (PRA), Public Law 104-13, sec. 2, 109 Stat. 163 (1995) (codified as revised at 44 U.S.C. 3501-3520), and its implementing regulations, 5 CFR part 1320, require Federal agencies to provide 60-days notice to the public for comment on information collection activities before seeking approval for reinstatement or renewal by OMB. 44 U.S.C. 3506(c)(2)(A); 5 CFR 1320.8(d)(1), 1320.10(e)(1), 1320.12(a). Specifically, FRA invites interested respondents to comment on the following summary of proposed information collection activities regarding (i) whether the information collection activities are necessary for FRA to properly execute its functions, including whether the activities will have practical utility; (ii) the accuracy of FRA's estimates of the burden of the information collection activities, including the validity of the methodology and assumptions used to determine the estimates; (iii) ways for FRA to enhance the quality, utility, and clarity of the information being collected; and (iv) ways for FRA to minimize the burden of information collection activities on the public by automated, electronic, mechanical, or other technological collection techniques or other forms of information technology (e.g., permitting electronic submission of responses). See 44 U.S.C. 3506(c)(2)(A)(i)-(iv); 5 CFR 1320.8(d)(1)(i)-(iv). FRA believes that soliciting public comment will promote its efforts to reduce the administrative and paperwork burdens associated with the collection of information mandated by Federal regulations. In summary, FRA reasons that comments received will advance three objectives: (i) Reduce reporting burdens; (ii) ensure that it organizes information collection requirements in a “user friendly” format to improve the use of such information; and (iii) accurately assess the resources expended to retrieve and produce information requested. See 44 U.S.C. 3501.

Below is a brief summary of currently approved information collection activities that FRA will submit for clearance by OMB as required under the PRA:

Title: Inspection Brake System Safety Standards for Freight and Other Non-Passenger Trains and Equipment (Power Brakes and Drawbars).

OMB Control Number: 2130-0008.

Abstract: Section 7 of the Rail Safety Enforcement and Review Act of 1992, Public Law 102-365, amended Section 202 of the Federal Railroad Safety Act of 1970 (45 U.S.C. 421, 431 et seq.), empowered the Secretary of Transportation to conduct a review of the Department's rules with respect to railroad power brakes and, where applicable, prescribe standards regarding dynamic brake equipment. In keeping with the Secretary's mandate and the authority delegated from him to the FRA Administrator, FRA issued revisions to the regulations governing freight power brakes and equipment in October 2008 by adding a new subpart addressing electronically controlled pneumatic (ECP) brake systems. The revisions are designed to provide for and encourage the safe implementation and use of ECT brake system technologies. These revisions contain specific requirements relating to design, interoperability, training, inspection, testing, handling defective equipment and periodic maintenance related to ECP brake systems. The final rule also identifies provisions of the existing regulations and statutes where FRA is proposing to provide flexibility to facilitate the voluntary adoption of this advanced brake system technology. The collection of information is used by FRA to monitor and enforce current regulatory requirements related to power brakes on freight cars as well as the recently added requirements related to ECP brake systems. The collection of information is also used by locomotive engineers and road crews to verify that the terminal air brake test has been performed in a satisfactory manner.

Form Number(s): None.

Affected Public: Businesses.

Respondent Universe: 559 railroads.

Frequency of Submission: On occasion.

Affected Public: Businesses.

Reporting Burden:

CFR section | Respondent universe | Total annual responses | Average time per response | Total annual burden hours
229.27—Annual Tests | 30,000 Locomotives | 30,000 tests | 15 minutes | 7,500
232.3—Applicability—Cars Not Used in Service | 559 Railroads | 8 cards | 10 minutes | 1
232.7—Waivers | 559 railroads | 25 petitions | 80 hours | 2,000
232.11—Penalties | 559 railroads | 1 false record | 10 minutes | 17
232.15—Movement of Defective Equipment | 1,620,000 cars/locos | 128,400 tags | 2.5 minutes | 5,350
—Notice of Defective Car/Locomotive and Restrictions | 1,620,000 cars/locos | 25,000 notices | 3 minutes | 1,250
232.17—Special Approval Procedure | 559 railroads | 4 petitions | 100 hours | 400
—Petitions—Pre-Revenue Svc Plans | 559 railroads | 2 petitions | 100 hours | 200
—Copies of Petitions—Special Approval | 559 railroads | 4 petitions | 20 hours | 80
—Statements of Interest | Public/Railroads | 14 statements | 8 hours | 112
—Comments on Special Approval Procedure Petition | Public/Railroads | 13 comments | 4 hours | 52
232.103—General Requirements for All Train Brakes | 114,000 cars | 70,000 stickers | 10 minutes | 11,667
232.105—General Requirements For Locomotives | 30,000 locomotives | 30,000 forms | 5 minutes | 2,500
232.107—Air Source Requirements—Plans | 10 new railroads | 1 plan | 40 hours | 40
—Amendments to Plan | 50 Existing Plans | 10 amendment | 20 hours | 200
—Record Keeping | 50 Existing Plans | 1,150 records | 20 hours | 23,000
232.109—Dynamic Br. Requirements—Rcd | 559 railroads | 1,656,000 rcd | 4 minutes | 110,400
—Repair of Inoperative Dynamic Brakes | 30,000 locomotives | 6,358 records | 4 minutes | 424
—Locomotives w/Inoperative Dynamic Br | 30,000 locomotives | 6,358 tags | 30 seconds | 53
—Deactivated Dynamic Brakes: Markings | 8,000 locomotives | 10 markings | 5 minutes | 1
—Rule Safe Train Handling Procedures | 5 new railroads | 5 oper. rules | 4 hours | 20
—Amendments | 559 railroads | 15 amendment | 1 hour | 15
—Over Speed Top Rules—5 MPH Increase | 559 railroads | 5 requests | 20.5 hours | 103
—Locomotive Engineer Certification Programs—Dynamic Brakes Training | 5 new railroads | 5 amendments | 16 hours | 80
232.111—Train Information Handling | 5 new railroads | 5 procedures | 40 hours | 200
—Amendments | 100 railroads | 100 am. proc. | 20 hours | 2,000
—Reports to Train Crews | 559 railroads | 2,112,000 rpts | 10 minutes | 352,000
232.203—Training Requirements: Training Programs—Subsequent Years | 15 railroads | 5 programs | 100 hours | 500
—Amendments to Written Program | 559 railroads | 559 am. prog. | 8 hours | 4,472
—Training Records | 559 railroads | 67,000 records | 8 minutes | 8,933
—Training Notifications | 559 railroads | 67,000 notices | 3 minutes | 3,350
—Validation/Assessment Plans | 559 railroads | 1 plan + 559 copies | 40 hrs./1 min. | 49
—Amendments to Validation/Assessment Plans | 559 railroads | 50 amendment | 20 hours | 1,000
232.205—Class I Brake Test—Initial Terminal Insp | 559 railroads | 1,646,000 notices | 45 seconds | 20,575
232.207—Class I A Brake Tests: 1000 Mile Insp
—Subsequent Years | 559 railroads | 5 designations | 1 hour | 5
—Amendments | 559 railroads | 5 amendments | 1 hour | 5
232.209—Class II Brake Tests—Intermediate Insp | 559 railroads | 1,597,000 comments | 3 seconds | 1,331
232.213—Extended Haul Trains—Designations | 84,000 train movements | 200 designates | 15 minutes | 50
232.303—General Requirements—Track Brake Test | 1,600,000 freight cars | 5,600 tags | 5 minutes | 467
—Location of Last Track Brake Test/Single Car Test | 1,600,000 freight cars | 320,000 stencillings | 5 minutes | 26,667
232.305—Single Car Tests | 1,600,000 freight cars | 320,000 tests/rcds | 45 minutes | 240,000
232.307—Request to Modify Single Car Air Brake Test Procedures | AAR | 1 request + 3 copies | 20 hours + 5 minutes | 20
—Statement Affirming That Request Copies Have been Served on Designated Employee Representatives | AAR | 1 statement + 4 copies | 30 minutes + 5 minutes | 1
—Comment on Modification Request | RR Industry/Public/Interested Parties | 2 comments | 8 | 16
232.309—Equipment and Devices—Tests/Calibrations | 640 shops | 5,000 tests | 30 minutes | 2,500
232.403—Design Standards For One-way EOT Devices—Unique Code | 245 railroads | 12 requests | 5 minutes | 1
232.407—Operations Requiring 2-Way EOTs | 245 railroads | 50,000 communications | 30 seconds | 417
232.409—Inspection and Testing of 2-Way EOTs | 245 railroads | 447,500 communications | 30 seconds | 3,729
—Testing Telemetry Equipment | 245 railroads | 32,708 markings | 60 seconds | 545
232.503—Process to Introduce New Brake System Technology—Special Approval | 559 railroads | 1 request/letter | 60 minutes | 1
—Pre-Revenue Service Demonstration | 559 railroads | 1 request | 3 hours | 3
232.505—Pre-Revenue Service Acceptance Testing Plan: Maintenance Procedure—Subsequent Years | 559 railroads | 1 procedure | 160 hours | 160
—Amendments | 559 railroads | 1 amendment | 40 hours | 40
—Design Descriptions—Petitions | 559 railroads | 1 petition | 67 hours | 67
—Results Pre-Revenue Service Acceptance Testing | 559 railroads | 1 report | 13 hours | 13
—Description of Brake Systems Technologies Previously Used in Revenue Service | 559 railroads | 5 descriptions | 40 hours | 200
232.603—ECP Requirements: Brakes—Configuration Management Plans | 4 railroads | 1 plan | 160 hours | 160
—Updated Plans in Subsequent Years | 4 railroads | 1 plan | 60 hours | 60
—Modification of Standards—Requests | 4 railroads | 1 request + 4 copies | 8 hours + 5 minutes | 8
—RR Statement Affirming Copy of Modification Request to Employee Reps | 4 railroads | 4 statements + 24 copies | 60 minutes + 5 minutes | 6
—Comments on Modification Request | Public/Interested Parties | 4 comments | 2 hours | 8
232.605—ECP Training Programs | 4 railroads | 4 programs | 100 hours | 400
—Programs in Subsequent Years | 4 railroads | 2 programs | 100 hours | 200
—ECP Trained Employees | 4 railroads | 6,409 workers | 8 hrs./24 hrs. | 10,512
—ECP Trained Employees—Subsequent Yr | 4 railroads | 6,409 workers | 1 hr./8 hrs. | 30,264
—ECP Trained Employees—Records | 4 railroads | 6,409 records | 4 minutes | 855
—ECP Trained Employees—Sub. Records | 4 railroads | 6,409 records | 4 minutes | 428
—RR/Contractor Assessment of ECP Training Programs—Amended Plans | 4 railroads | 4 amended Plans | 40 hours | 160
—ECP Amended Operating Rules | 4 railroads | 4 am. rules | 24 hours | 96
—Amended Locomotive Engineer Certification Programs | 4 railroads | 4 programs | 40 hours | 160
232.607—ECP Trains Inspection/Testing:—Notification to Locomotive Engineer | 4 railroads | 10,000 tests + 10,000 notices | 90 minutes + 45 seconds | 15,125
—Cars Added en Route—Tests/Notifications | 4 railroads | 1,000 tests + 1,000 notices | 60 minutes + 45 seconds | 1,006
—Non-ECP Cars Added—Inspections and Tagging of Defective Equipment | 2000 Cars | 200 insp. + 400 tags | 5 minutes + 2.5 minutes | 34
232.609—Handling of Defective Equipment w/ECP Brake Systems—Tagging | 25 Cars | 50 tags | 2.5 minutes | 2
—Train in ECP Mode w/Less Than 85% of Cars w/Operative Brakes—Insp. + Tagging | 20 Cars | 20 insp. + 40 tags | 5 minutes + 2.5 minutes | 3
—Freight Cars w/ECP Systems Found with Defective Non-Safety Appliance—Tagging | 75 cars | 150 tags | 2.5 minutes | 6
—Conventional Train Operating with ECP Stand Alone Brake Systems—Tagging | 500 cars | 1,000 tags | 2.5 minutes | 42
—Procedures for Handling ECP Brake System Repairs | 4 railroads | 4 procedures | 24 hours | 96
—Submission to FRA of ECP Brake System Repair Locations—Lists | 4 railroads | 4 lists | 8 hours | 32
—Notice to FRA of Change in List | 4 railroads | 1 notification | 60 minutes | 1
232.611—Periodic Maintenance Inspection and Repair of ECP Cars Before Release from Repair Shop or Track | 500 freight Cars | 500 inspection and records | 10 minutes | 83
—Petitions for Special Approval of Pre-Revenue Service Acceptance Testing Plan | AAR | 1 petition + 2 copies | 24 + 5 minutes | 24
—Single Car Brake Test on ECP Retrofitted Cars | 2,500 freight Cars | 2,500 tests/records | 45 minutes | 1,875
—Modification of Single Car Test Standard | AAR | 1 procedure | 40 hours | 40

Total Estimated Annual Responses: 8,677,683.

Total Estimated Annual Burden: 991,451 hours.

Status: Extension without Change of a Currently Approved Collection.

Title: Occupational Noise Exposure for Railroad Operating Employees.

OMB Control Number: 2130-0571.

Abstract: The collection of information is used by FRA to ensure that railroads covered by this rule establish and implement—by specified dates—noise monitoring, hearing conservation, and audiometric testing programs, as well as hearing conservation training programs, to protect their employees against the damaging and potentially dangerous effects of excessive noise in the everyday rail environment.

Affected Public: Businesses.

Respondent Universe: 460 railroads.

Frequency of Submission: On occasion.

Reporting Burden:

CFR section | Respondent universe | Total annual responses | Average time per response | Total annual burden hours
227.9—Waivers | 460 Railroads | 5 petitions | 60 minutes | 5
227.103—Noise Monitoring Program | 460 Railroads | 460 programs | 3 hours/30 hours/600 hours | 5,128
—Notification of Employee of Monitoring | 460 Railroads | 905 lists | 30 minutes | 453
227.107—Hearing Conservation Program (HCP) | 460 railroads | 461 HCPs | 150 hrs/2 hrs/31 hrs/7.5 hours | 2,875
—Revised Hearing Conservation Programs (HCPs) | 460 railroads | 5 HCPs | 1.74 hours | 9
227.109—Audiometric Testing Program—Existing Employees—Baseline Audiograms | 85,600 Employees | 7,100 a-grams | 25 minutes | 2,958
—Periodic Audiograms | 85,600 Employees | 8,000 a-grams | 10 minutes | 1,333
—Evaluation of Audiograms | 85,600 Employees | 2,330 eval. + 93 retests | 6 min./2.5 hrs. | 280
—Problem Audiograms/& required documents to Medical Professional | 8,000 Employees | 45 documents | 10 minutes | 8
—Follow-up Procedures—Notifications | 8,000 Employees | 93 notices | 15 minutes | 8
—Fitting/Training of Employees: Hearing Protectors | 240 Employees | 240 tr. session | 2 minutes | 8
—Referrals For Clinical/Otological Exam | 240 Employees | 20 referrals | 2 hours | 40
—Notification to Employee of Need: Otological Examination | 240 Employees | 20 notices | 5 minutes | 2
—New Audiometric Interpretation | 240 Employees | 20 notices | 5 minutes | 2
227.111—Audiometric Test Requirements | 1,000 Mobile Vans | 1,000 tests | 45 minutes | 750
227.117—Hearing Protection Attenuation—Evaluation | 460 Railroads | 50 evaluations | 30 minutes | 25
—Re-Evaluations | 460 Railroads | 10 re-evals | 30 minutes | 5
227.119—Hearing Conservation Training Program—Development | 460 Railroads/AAR | 441 programs | 1 hour/58 hrs/30 minutes | 353
—Employee Training | 460 Railroads | 26,000 tr. Employees | 30 minutes | 13,000
—Periodic Training | 460 Railroads | 7,100 tr. Employees | 30 minutes | 3,550
227.121—Record Keeping—Authorization: Records | 460 Railroads | 30 requests + 30 responses | 10 minutes + 15 minutes | 13
—Request for Copies of Reports | 460 Railroads | 150 requests + 150 responses | 21 minutes + 45 minutes | 166
—Records Transfer When Carrier Becomes Defunct | 460 Railroads | 10 records | 24 minutes | 4
—Railroad Audiometric Test Records | 460 Railroads | 26,000 records | 2 minutes | 867
—Hearing Conservation Program (HCP) Records | 460 Railroads | 54,000 records | 45 seconds | 675
229.121—Locomotive Cab Noise—Tests/Certification | 3 Equipment Manufacturers | 700 tests/records | 40 minutes + 5 minutes | 111
—Equipment Maintenance: Excessive Noise Reports | 460 Railroads | 3,000 reports + 3,000 record | 1 minute + 1 minute | 100
—Maintenance Records | 460 Railroads | 3,750 records | 1 minute | 63
—Internal Auditable Monitoring Systems | 460 Railroads | 460 systems | 36 min. + 8.25 hours | 506
Appendix H—Static Test Protocols/Records | 700 Locomotives | 2 retests + 2 records | 10 minutes + 5 minutes | 1

Total Estimated Annual Responses: 145,682.

Estimated Total Annual Burden: 33,928 hours.

Status: Extension of a Currently Approved Collection.

Pursuant to 44 U.S.C. 3507(a) and 5 CFR 1320.5(b), 1320.8(b)(3)(vi), FRA informs all interested parties that it may not conduct or sponsor, and a respondent is not required to respond to, a collection of information unless it displays a currently valid OMB control number.

Authority: 44 U.S.C. 3501-3520.

Issued in Washington, DC.
Rebecca Pennington,
Chief Financial Officer.

[FR Doc. 2014-24688 Filed 10-16-14; 8:45 am]

BILLING CODE 4910-06-P